DEPARTMENT OF AGRICULTURE

Forest Service

Tri County Resource Advisory Committee

AGENCY: Forest Service, USDA.

ACTION: Notice of meeting.

SUMMARY: The Tri County Resource Advisory Committee (RAC) will have a hybrid meeting, with the option to attend virtually or in-person. The committee is authorized under the Secure Rural Schools and Community Self-Determination Act (the Act) and operates in compliance with the Federal Advisory Committee Act. The purpose of the committee is to improve collaborative relationships and to provide advice and recommendations to the Forest Service concerning projects and funding consistent with Title II of the Act. RAC information and virtual meeting information can be found at the following website: https://www.fs.usda.gov/main/bdnf/workingtogether/advisorycommittees.

DATES: The meeting will be held on Friday, February 3rd, 2023 beginning at 8:30 a.m. Mountian Standard Time. All RAC meetings are subject to cancellation. For status of the meeting prior to attendance, please contact the person listed under FOR FURTHER INFORMATION CONTACT.

Written and Oral Comments: Individuals wishing to make an oral statement should request in writing by Friday, January 27, 2023, to be scheduled on the agenda. Anyone who would like to bring related matters to the attention of the committee may file written statements with the committee staff before or after the meeting. Written comments, requests for time for oral comments or requests for instructions to participate virtually must be sent to Catherine McRae, RAC Coordinator, 420 Barrett Street, Dillon, MT 59725, by email to catherine.mcrae@usda.gov, or by phone at 406-925-3353.

ADDRESSES: The meeting is open to the public and will be held at 420 Barrett St., Dillon, MT 59725-3572, in the large conference room or may be attended virtually. Virtual meeting participation details can be found on the website listed under SUMMARY or by contacting the person listed under FOR FURTHER INFORMATION CONTACT.

Written comments may be submitted as described under SUPPLEMENTARY INFORMATION. All comments, including names and addresses when provided, are placed in the record and are available for public inspection and copying. The public may inspect comments received upon request.

FOR FURTHER INFORMATION CONTACT: Catherine McRae, RAC Coordinator, by phone at 406-925-3353 or by email at catherine.mcrae@usda.gov. Individuals who use telecommunication devices for the deaf or hard of hearing (TDD) may call the Federal Relay Service (FRS) at 800-877-8339, 24 hours a day, every day of the year, including holidays.

SUPPLEMENTARY INFORMATION: The purpose of the meeting is to:

1. Discuss and provide recommendations on fee change proposals for developed recreation sites on National Forest lands.

2. Discuss and recommend new Title II projects.

This meeting is open to the public. The agenda will include time for people to make oral statements of three minutes or less. Individuals wishing to make an oral statement should request in writing by Friday, January 27, 2023, to be scheduled on the agenda. Anyone who would like to bring related matters to the attention of the committee may file written statements with the committee staff before or after the meeting. Written comments, requests for time for oral comments or requests for instructions to participate virtually must be sent to Catherine McRae, RAC Coordinator, 420 Barrett Street, Dillon, MT 59725, by email to catherine.mcrae@usda.gov, or by phone at 406-925-3353.

Meeting Accommodations: If you are a person requiring reasonable accommodation, please make requests in advance for sign language interpreting, assistive listening devices, or other reasonable accommodation. For access to the facility or proceedings, please contact the person listed in the section titled FOR FURTHER INFORMATION CONTACT. All reasonable accommodation requests are managed on a case by case basis.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the Committee. To ensure that the recommendations of the Committee have taken in account the needs of the diverse groups served by USDA, membership shall include to the extent possible, individuals with demonstrated ability to represent minorities, women, and person with disabilities. USDA is an equal opportunity provider, employer, and lender.

Dated: December 23, 2022.
Cikena Reid,
USDA Committee Management Officer.

[FR Doc. 2022-28411 Filed 12-29-22; 8:45 am]

BILLING CODE 3411-15-P